COMMISSION ON CIVIL RIGHTS

Agenda and Notice of Public Meeting of the Alabama, Arkansas, Louisiana and Mississippi Advisory Committees

Notice is hereby given, pursuant to the provisions of the rules and regulations of the U.S. Commission on Civil Rights, that a conference call of the Alabama, Arkansas, Louisiana and Mississippi Advisory Committees will convene at 1:30 p.m. and adjourn at 3:30 p.m. (CST) on Tuesday, August 30, 2005. The purpose of the conference call is to discuss and plan future activities in FY 2005-06.

This conference call is available to the public through the following call-in number: 1-800-473-8492, access code number 43412191. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Corrine Sanders of the Central Regional Office 913-551-1400 (TDD 913-551-1414), by 2 p.m. on Friday, August 26, 2005.

The meeting will be conducted pursuant to the provisions of the rules and regulations of the Commission.

Dated at Washington, DC, August 29, 2005.
Ivy L. Davis,
Acting Chief, Regional Programs Coordination Unit.

[FR Doc. 05-17411 Filed 8-31-05; 8:45 am]

BILLING CODE 6335-01-P